DEPARTMENT OF HOUSING AND URBAN DEVELOPMENT

[Docket No. FR-4909-N-03]

Notice of Proposed Information Collection for Public Comment on the Continued Participant Tracking in the Moving to Opportunity Demonstration Program

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: June 11, 2004.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410.

FOR FURTHER INFORMATION CONTACT: Todd Richardson, Program Evaluation Division, Office of Policy Development and Research, Department of Housing and Urban Development, 451 7th Street, SW., Room 8140, Washington, DC 20410; (202) 708-3700, extension 5706 for copies of the proposed forms and other available documents. (This is not a toll-free number.)

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology; e.g., permitting electronic submission of responses.

This Notice also lists the following information:

Title of Proposal: Continued Participant Tracking in the Moving to Opportunity Demonstration Program.

Description of the need for the information and proposed use: This request is for the clearance of several survey instruments designed to collect information on the current locations of participants in the Moving to Opportunity (MTO) demonstration program. The instruments also have a small number of outcome measures, such as employment. Authorized by Congress in the Housing and Community Development Act of 1992, MTO is a unique experimental research demonstration designed to learn whether moving from a high-poverty neighborhood to a low-poverty neighborhood significantly improves the social and economic prospects of poor families. Families living in high poverty public and assisted housing in Baltimore, Boston, Chicago, Los Angeles and New York who applied for MTO were randomly assigned into two treatment groups and one control group between 1994 and 1998. Families assigned to the treatment groups were provided Section 8 to allow them to move out of the high poverty developments. Families in one of the treatment groups received intensive mobility counseling and were required to lease a unit in a neighborhood with less than ten percent poverty. The other treatment group families could lease a unit wherever they chose, but only received the normal housing authority counseling. Those families assigned to the control group did not receive any Section 8 assistance but continued to receive project-based assistance.

This data collection is necessary to continue to track the families who signed up for the Moving to Opportunity program in order to measure impacts and mediators in 2007, approximately 10 years after families signed up for the program.

Data gathered would be used by Abt Associates to provide HUD with continued information on where families are living so that the final evaluation will have as little sample attrition as possible.

Agency form numbers: None.

Members of Affected Public: Individuals or households.

Estimation of the total number of hours needed to prepare the information collection including number of respondents, frequency of response, and hours of response: Approximately 1,430 households over 4 years are expected to complete an 8-minute mail survey, 3,226 households will respond to the 19-minute family canvass form in 2006. Total burden hours for this data collection are estimated at 1,214.

Status of the proposed information collection: Pending OMB approval.

Authority Section 3506 of the Paperwork Reduction Act of 1995, 44 U.S.C. chapter 35, as amended.

Dated: April 2, 2004.
Harold L. Bunce,
Deputy Assistant Secretary for Economic Affairs.

[FR Doc. 04-8142 Filed 4-9-04; 8:45 am]

BILLING CODE 4210-62-M